DEPARTMENT OF THE INTERIOR

Fish and Wildlife Service

Supawna Meadows National Wildlife Refuge, Salem County, NJ

AGENCY: Fish and Wildlife Service, Interior.

ACTION: Notice of intent to prepare a comprehensive conservation plan and environmental assessment; announcement of public scoping and request for comments.

SUMMARY: The U.S. Fish and Wildlife Service (we, us, Service) is gathering the information needed to prepare a comprehensive conservation plan (CCP) and associated environmental assessment (EA) for Supawna Meadows National Wildlife Refuge (NWR). We publish this notice in compliance with our policy of advising other agencies and the public of our intentions to conduct detailed planning on refuges and obtain suggestions and information about the scope of issues to consider in the planning process.

DATES: We held public scoping meetings in September 2007 after announcing the location, date, and times at least 2 weeks in advance in special mailings, notices in local newspapers, in radio public service announcements, on our Web site (http://www.fws.gov/northeast/planning), and through personal contacts. To ensure our consideration of your written comments, you must submit them within 30 days of the publication of this notice.

ADDRESSES: Send your comments or requests for more information on the planning process to Beth Goldstein, Refuge Planner, U.S. Fish and Wildlife Service, 300 Westgate Center Drive, Hadley, MA, 01035; 413-253-8564 (telephone); 413-253-8468 (fax); northeastplanning@fws.gov (electronic mail). If submitting comments by electronic mail, please put “Supawna Meadows NWR” in the subject line.

FOR FURTHER INFORMATION: To obtain more information on the refuge, contact Howard Schlegel, Refuge Manager, Cape May NWR, at 609-463-0994 (telephone); fw5rw_spmnwr@fws.gov (electronic mail); http://www.fws.gov/refuges/profiles/index.cfm?id=52571 (Supawna Meadows NWR Web site).

SUPPLEMENTARY INFORMATION: This notice initiates the comprehensive conservation planning process for Supawna Meadows NWR, which is administered by Cape May NWR staff with headquarters in Cape May Court House, New Jersey.

Background

The CCP Process

The National Wildlife Refuge System Administration Act of 1966, as amended by the National Wildlife Refuge System Improvement Act of 1997 (16 U.S.C. 668dd-668ee), requires us to develop a CCP for each national wildlife refuge. The purpose of a CCP is to provide refuge managers with a 15-year plan for achieving refuge purposes and contributing to the mission of the National Wildlife Refuge System (NWRS), consistent with the sound principles of fish and wildlife management and conservation, legal mandates, and Service policies. In addition to providing broad management direction on conserving wildlife and habitat, the plans identify wildlife-dependent recreational opportunities available to the public, including opportunities for hunting, fishing, wildlife observation and photography, and environmental education and interpretation. We will review and update the CCP at least every 15 years.

We establish each refuge for specific purposes, and use those purposes to develop and prioritize its management goals, objectives, and public uses. The planning process is one way for us and for the public to evaluate those goals and objectives for the best possible conservation of important wildlife habitat, while providing opportunities for wildlife-dependent recreation compatible with those purposes and the mission of the NWRS.

We request your input on all issues, concerns, ideas, improvements and suggestions for the future management of Supawna Meadows NWR. You may submit comments at any time during the planning process by writing to the refuge planner (see ADDRESSES above).

We will conduct the environmental review of this project in accordance with the requirements of the National Environmental Policy Act of 1969 (NEPA), as amended (42 U.S.C. 4321, et seq.), the Council on Environmental Quality Regulations on NEPA (40 CFR parts 1500-1508), other appropriate Federal laws and regulations, and our policies and procedures for complying with them. All of the comments we receive on either our EAs or our environmental impact statements become part of the official public record. We will handle requests for those comments in accordance with the Freedom of Information Act, NEPA (40 CFR 1506.6(f)), and other policies and procedures of the Department of the Interior or the Service. When we receive such a request, we will provide comment letters with the names and addresses of the individuals who wrote them. However, to the extent permissible by law, we will not provide the telephone numbers of those individuals.

Supawna Meadows NWR

Supawna Meadows NWR currently includes more than 3,000 acres of marsh, grassland, shrubland, and forest habitats. The approved refuge acquisition boundary encompasses 4,500 acres along the Upper Delaware Bay and Salem River in Pennsville Township, New Jersey. The refuge boundaries are defined by the Delaware Bay, Salem River, and Fort Mott Road.

Supawna Meadows NWR was originally established as the Goose Pond addition to the Killcohook NWR (currently termed Killcohook Dredge Spoil Disposal Area), which was established by Executive Order 6582 on February 3, 1934. The refuge was renamed Supawna Meadows NWR and officially separated from Killcohook on April 10, 1974, by the Service. On October 30, 1998, the Service's jurisdiction over Killcohook was revoked.

Supawna Meadows NWR was established as a “* * *refuge and breeding ground for wild birds and animals;” “* * *for particular value in carrying out the national migratory bird management program;” “* * *for use as an inviolate sanctuary, or for any other management purpose, for migratory birds;” and as a refuge “* * *suitable for (1) incidental fish and wildlife-oriented recreational development, (2) the protection of natural resources, (3) the conservation of endangered species or threatened species* * *”

The refuge is located in the Atlantic Flyway, where birds migrating from interior Canada and the coastal Provinces merge to form the main stem of the flyway. The area not only serves as an important migration area, but also provides wintering habitat for large numbers of waterfowl. Recent midwinter waterfowl inventory flights for the Salem River watershed averaged more than 2,000 dabbling ducks and more than 17,000 Canada geese.

Supawna Meadows NWR provides critical foraging habitat for more than 6,000 pairs of 9 species of wading birds that nest on Pea Patch Island, one of the largest rookeries on the east coast. Pea Patch Island and the surrounding area, including the refuge, have been designated a Special Management Area by the States of New Jersey and Delaware, in accordance with the Coastal Zone Management Act.

Supawna Meadows NWR receives significant use by shorebirds during both spring and fall migrations. The refuge and adjacent marshes are currently being investigated for potential inclusion in the Western Hemisphere Shorebird Reserve Network. It also provides habitat for the bald eagle, as well as State-listed endangered and threatened species and species of conservation concern.

A maternity colony of more than 1,500 bats, primarily the little brown bat, roosts in a dilapidated barn on the refuge. The federally endangered Indiana bat is known to form small colonies within large little brown bat colonies. Indiana bats have been documented within the Highlands region of New Jersey, but little survey work has taken place within the southern portion of the State, and it is not yet known if the species is present within the Coastal Plain.

Reptile and amphibian species of conservation concern at Supawna Meadows NWR include northern diamondback terrapin, eastern box turtle, spotted turtle, and Fowler's toad.

The predominant public uses of the refuge are hunting, fishing, wildlife observation and photography. There are two walking trails and one boating trail to facilitate those uses. Portions of the refuge are open to deer hunting and waterfowl hunting per State regulations. There is an historic lighthouse on the refuge, the Finns Point Rear Range Light, which draws a number of visitors.

Dated: September 18, 2007.
Thomas J. Healy,
Acting Regional Director, U.S. Fish and Wildlife Service, Hadley, Massachusetts.

[FR Doc. E7-18740 Filed 9-21-07; 8:45 am]

BILLING CODE 4310-55-P